FEDERAL COMMUNICATIONS COMMISSION

Notice of Public Information Collection(s) Being Submitted for Review to the Office of Management and Budget

October 22, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 3, 2007. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at: Nicholas_A._Fraser@omb.eop.gov and to Judith-B.Herman@fcc.gov, Federal Communications Commission, Room 1-B441, 445 12th Street, SW., Washington, DC 20554 or an e-mail to PRA@fcc.gov. If you would like to obtain or view a copy of this information collection, you may do so by visiting the OMB's ROCIS system at: http://www.reginfo.gov/public/do/PRAMain.

FOR FURTHER INFORMATION CONTACT: For additional information or copies of the information collection(s), contact Judith B. Herman at 202-418-0214 or via the Internet at Judith-B.Herman@fcc.gov.

SUPPLEMENTARY INFORMATION: OMB Control Number: 3060-0626.

Title: Section 90.483, Permissible Methods and Requirements of Interconnecting Private and Public Systems of Communications.

Form No.: N/A.

Type of Review: Revision of a currently approved collection.

Respondents: Business or other for-profit.

Number of Respondents: 100 respondents; 100 responses.

Estimated Time Per Response: 1 hour.

Frequency of Response: On occasion reporting requirement.

Obligation to Respond: Required to obtain or retain benefits.

Total Annual Burden: 100 hours.

Total Annual Cost: N/A.

Privacy Act Impact Assessment: N/A.

Nature and Extent of Confidentiality: There is no need for confidentiality.

Needs and Uses: The Commission will submit this information collection to the OMB as a revision during this comment period to obtain the full three-year clearance from them. There is a change in the number of respondents/responses, burden hours and annual costs due to the elimination of two rule sections in this collection. Sections 90.168 and 90.425 have been removed from this information collection (IC). Section 90.168 is covered under OMB Control Number 3060-0076; and section 90.425 is covered under 3060-0599; therefore, only section 90.483 remains in this IC.

Section 90.483 contains permissible methods and requirements of interconnecting private and public systems of communications. This section allows Part 90 Commercial Mobile Radio Service (CMRS) providers to interconnect by any technically feasible means. Various subsections require that licensees obtain the consent of co-channel licensees (third party disclosure requirement) within a 75 mile radius of the interconnected base station transmitter and submit a statement (reporting requirement) to the Commission indicating that all co-channel licensees have consented to operate without the monitoring equipment.

Federal Communications Commission.
Marlene H. Dortch,
Secretary.

[FR Doc. E7-21025 Filed 10-31-07; 8:45 am]

BILLING CODE 6712-01-P